DEPARTMENT OF TRANSPORTATION

Federal Aviation Administration

Fourteenth Meeting: RTCA NextGen Advisory Committee (NAC)

AGENCY: Federal Aviation Administration (FAA), U.S. Department of Transportation (DOT)

ACTION: Fourteenth Meeting Notice of RTCA NextGen Advisory Committee

SUMMARY: The FAA is issuing this notice to advise the public of the fourteenth meeting of the RTCA NextGen Advisory Committee.

DATES: The meeting will be held February 26, 2015 from 9:00 a.m. to 3:00 p.m.

ADDRESSES: The meeting will be held at Delta Air Lines, Inc. New York City Room 1010 Delta Blvd. Atlanta, GA 30354.

FOR FURTHER INFORMATION CONTACT: The RTCA Secretariat, 1150 18th Street NW., Suite 910, Washington, DC 20036, or by telephone at (202) 833-9339, fax at (202) 833-9434, or Web site at http://www.rtca.org. Andy Cebula, NAC Secretary can also be contacted at acebula@rtca.org or 202-330-0652.

SUPPLEMENTARY INFORMATION: Pursuant to section 10(a)(2) of the Federal Advisory Committee Act (Pub. L. 92-463, 5 U.S.C., App.), notice is hereby given for a meeting of Special Committee 224. The agenda will include the following:

February 26th

• Opening of Meeting/Introduction of NAC Members—Chairman Richard Anderson, Chief Executive Officer, Delta Air Lines, Inc.

• Official Statement of Designated Federal Official—The Honorable Mike Whitaker, FAA Deputy Administrator

• Review and Approval of October 8, 2014 Meeting Summary and Revised Committee Terms of Reference

• Chairman's Report—Chairman Anderson

• FAA Report—Mr. Whitaker

• Atlanta Multiple Runway Operations Implementation Experience—Benefits story of Multiple Runway Operations/Recategorization at ATL

• Open Discussion: NextGen Implementation—What does success look like for NextGen implementation?

• NextGen Integration Working Group (NIWG) FAA and Industry Leaders Oversight, Monitoring and Tracking Process

• NIWG Surface Report Out

• NIWG Data Comm Report Out

• NIWG Performance Based Navigation Report Out

• NIWG Multiple Runway Operations Report Out

• Summary of meeting and next steps—DFO and NAC Chairman Closing Comments

• Other business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 27, 2015.
Mohannad Dawoud,
Management Analyst, NextGen, Program Oversight and Administration, Federal Aviation Administration.

[FR Doc. 2015-01801 Filed 1-29-15; 8:45 am]

BILLING CODE 4910-13-P